ENVIRONMENTAL PROTECTION AGENCY

40 CFR Part 52

[EPA-R06-OAR-2004-TX-0006; FRL-8044-1]

Approval and Promulgation of Air Quality Implementation Plans; Texas; Control of Air Pollution by Permits for New Construction or Modification

AGENCY: Environmental Protection Agency (EPA).

ACTION: Proposed rule.

SUMMARY: EPA is proposing to approve revisions to the Texas State Implementation Plan (SIP). This action approves provisions for alternate language public notice for certain preconstruction permits or permit renewals and provisions for preconstruction permit renewals. It approves SIP revisions that Texas submitted to EPA on August 31, 1993; April 29, 1994; August 17, 1994; and July 22, 1998. The revisions that EPA is approving supplement the current requirements for new construction and modifications and are more stringent than the Federal Clean Air Act (CAA or the Act) and EPA regulations. We are approving the revisions under sections 110 and 116 of the Act as improving the existing SIP.

DATES: Written comments must be received on or before April 10, 2006.

ADDRESSES: Comments may be mailed to Mr. David Neleigh, Chief, Air Permits Section (6PD-R), Environmental Protection Agency, 1445 Ross Avenue, Suite 1200, Dallas, Texas 75202-2733. Comments may also be submitted electronically or through hand delivery/courier by following the detailed instructions in the ADDRESSES section of the direct final rule located in the rules section of this Federal Register.

FOR FURTHER INFORMATION CONTACT: Mr. Stanley M. Spruiell, Air Permits Section (6PD-R), Environmental Protection Agency, Region 6, 1445 Ross Avenue, Suite 700, Dallas, Texas 75202-2733, telephone (214) 665-7212; fax number 214-665-7263; e-mail address spruiell.stanley@epa.gov.

SUPPLEMENTARY INFORMATION: In the final rules section of this Federal Register, EPA is approving the State's SIP submittal as a direct final rule without prior proposal because the Agency views this as a noncontroversial submittal and anticipates no significant adverse comments. A detailed rationale for the approval is set forth in the direct final rule. If no significant adverse comments are received in response to this action, no further activity is contemplated. If EPA receives significant adverse comments, the direct final rule will be withdrawn and all public comments received will be addressed in a subsequent final rule based on this proposed rule. EPA will not institute a second comment period. Any parties interested in commenting on this action should do so at this time. Please note that if EPA receives significant adverse comment on an amendment, paragraph, or section of this rule and if that provision may be severed from the remainder of the rule, EPA may adopt as final those provisions of the rule that are not the subject of an adverse comment.

For additional information, see the direct final rule which is located in the rules section of this Federal Register.

Dated: February 28, 2006.
Richard E. Greene,
Regional Administrator, Region 6.

[FR Doc. 06-2316 Filed 3-9-06; 8:45 am]

BILLING CODE 6560-50-P